NATIONAL CREDIT UNION ADMINISTRATION

Sunshine Act Notice

Time and Date: 10 a.m., Wednesday, November 17, 2010.

Place: Board Room, 7th Floor, Room 7047, 1775 Duke Street, Alexandria, VA 22314-3428.

Status: Closed.

Matters To Be Considered

1. Pilot Programs (3). Closed pursuant to some or all of the following: Exemptions (4) and (8).

2. Insurance Appeals (3). Closed pursuant to some or all of the following: Exemptions (4) and (6).

3. Personnel (2). Closed pursuant to some or all of the following: Exemption (2).

4. Consideration of Supervisory Activities (4). Closed pursuant to some or all of the following: Exemptions (8), (9)(A)(ii) and 9(B).

FOR FURTHER INFORMATION CONTACT: Mary Rupp, Secretary of the Board, Telephone: 703-518-6304.

Mary Rupp,
Board Secretary.

[FR Doc. 2010-28795 Filed 11-10-10; 4:15 pm]

BILLING CODE P